DEPARTMENT OF TRANSPORTATION

Coast Guard

33 CFR Part 140

[USCG-2001-9045]

RIN 2115-AG14

Inspections Under, and Enforcement of, Coast Guard Regulations for Fixed Facilities on the Outer Continental Shelf by the Minerals Management Service

AGENCY: Coast Guard, DOT.

ACTION: Notice of proposed rulemaking.

SUMMARY: We propose to authorize the Minerals Management Service (MMS) to perform inspections, on behalf of the Coast Guard, on fixed facilities engaged in Outer Continental Shelf activities and to enforce Coast Guard regulations applicable to those facilities. MMS already performs inspections on these facilities to determine whether they comply with MMS regulations. By authorizing MMS to also check for compliance with Coast Guard regulations, we avoid duplicating functions, reduce Federal costs, and increase the frequency of inspections.

DATES: Comments and related material must reach the Docket Management Facility on or before July 9, 2001.

ADDRESSES: To make sure your comments and related material are not entered more than once in the docket, please submit them by only one of the following means:

(1) By mail to the Docket Management Facility (USCG-2001-9045), U.S. Department of Transportation, room PL-401, 400 Seventh Street SW., Washington, DC 20590-0001.

(2) By hand delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this rulemaking. Comments and material received from the public, as well as documents mentioned in this preamble as being available in the docket, will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: If you have questions on this proposed rule, contact James M. Magill, Vessel and Facility Operating Standards Division (GMMSO-2), telephone 202-267-1082 or fax 202-267-4570. If you have questions on viewing or submitting material to the docket, call Dorothy Beard, Chief, Dockets, Department of Transportation, telephone 202-366-5149.

SUPPLEMENTARY INFORMATION:

Request for Comments

We encourage you to participate in this rulemaking by submitting comments and related material. If you do so, please include your name and address, identify the docket number for this rulemaking (USCG-2001-9045), indicate the specific section of this document to which each comment applies, and give the reason for each comment. You may submit your comments and material by mail, hand delivery, fax, or electronic means to the Docket Management Facility at the address under ADDRESSES; but please submit your comments or material by only one means. If you submit them by mail or hand delivery, submit them in an unbound format, no larger than 8½ by 11 inches, suitable for copying and electronic filing. If you submit them by mail and would like to know they reached the Facility, please enclose a stamped, self-addressed postcard or envelope. We will consider all comments and material received during the comment period. We may change this proposed rule in view of them.

Public Meeting

We do not now plan to hold a public meeting. But you may submit a request for one to the Docket Management Facility at the address under ADDRESSES explaining why one would be beneficial. If we determine that one would aid this rulemaking, we will hold one at a time and place announced by a later notice in the Federal Register.

Background and Purpose

The purpose of this rulemaking is to authorize the Minerals Management Service (MMS) to perform inspections on fixed Outer Continental Shelf (OCS) facilities engaged in OCS activities and to enforce Coast Guard regulations applicable to those facilities for compliance with Coast Guard regulations in 33 CFR chapter I, subchapter N. The Coast Guard and MMS regulate safety on fixed OCS facilities. MMS regulates the structural integrity of the facility, in addition to enforcing all regulations pertaining to production and well-work activities, such as drilling and workover operations. The Coast Guard regulates marine systems, such as lifesaving and navigation equipment, and workplace safety and health. Annually, MMS visits all of the fixed OCS facilities to inspect for violations in the area of its responsibility. The Coast Guard, because of the much fewer number of inspectors available, visits less than 10 percent. On December 18, 1998, MMS and the Coast Guard agreed to review the regulations of both agencies to ensure consistency and to eliminate duplication. As part of this review, MMS and the Coast Guard decided that, because MMS was already visiting all of the fixed OCS facilities at least once a year, it would be beneficial to both agencies if MMS was authorized, on behalf of the Coast Guard, to inspect and enforce the Coast Guard's regulations for fixed OCS facilities. Such an authorization is allowed under the Outer Continental Shelf Lands Act, which, in 43 U.S.C. 1348(a), allows the Coast Guard to use the services and personnel of other Federal agencies for the enforcement of its OCS regulations.

Regulatory Evaluation

This proposed rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979). We expect the economic impact of this proposed rule to be so minimal that a full Regulatory Evaluation under paragraph 10e of the regulatory policies and procedures of DOT is unnecessary.

The proposed rule would not impose significant additional costs to MMS's inspection program or to the owners of facilities being inspected. Owners or operators of each facility would be required to incur a slight burden associated with keeping a copy of the annual self-inspection form CG-5432 on the facility. This burden is explained in detail in the “Collection of Information” section. We expect the annual cost of this burden to be about $8.25 per facility or $28,776 for the 3,489 facilities engaged in Outer Continental Shelf activities. Using 7 percent as the discount rate, the 10-year present value of this cost is $202,110.

Authorizing MMS to check for compliance with Coast Guard regulations would avoid duplicating functions and enhance the enforcement of regulations.

Small Entities

Under the Regulatory Flexibility Act (5 U.S.C. 601-612), we considered whether this proposed rule would have a significant economic impact on a substantial number of small entities. The term “small entities” comprises small businesses, not-for-profit organizations that are independently owned and operated and are not dominant in their fields, and governmental jurisdictions with populations of less than 50,000.

We do not expect this proposed rulemaking to create significant additional costs to the MMS or the inspected facilities. This proposed rulemaking would authorize MMS to inspect and enforce Coast Guard regulations on fixed OCS facilities. Coast Guard personnel currently perform these inspections, and authorizing MMS to do so does not reduce the number of inspections nor significantly increase the burden placed on the affected entities. Though it affects all small entities involved, we estimate the additional burden to be $8.25 per facility as shown in the “Regulatory Evaluation” section of this preamble. We further explain this burden and the affected entities in the “Collection of Information” section of this preamble.

Therefore, the Coast Guard certifies under 5 U.S.C. 605(b) that this proposed rule would not have a significant economic impact on a substantial number of small entities. If you think that your business, organization, or governmental jurisdiction qualifies as a small entity and that this rule would have a significant economic impact on it, please submit a comment to the Docket Management Facility at the address under ADDRESSES. In your comment, explain why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please consult James M. Magill, Vessel and Facility Operating Standards Division (GMMSO-2), telephone 202-267-1082 or fax 202-267-4570.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This proposed rule would call for a collection of information under the Paperwork Reduction Act of 1995 (44 U.S.C. 3501-3520). As defined in 5 CFR 1320.3(c), “collection of information” comprises reporting, recordkeeping, monitoring, posting, labeling, and other, similar actions. The title and description of the information collections, a description of those who must collect the information, and an estimate of the total annual burden follow. The estimate covers the time for reviewing instructions, searching existing sources of data, gathering and maintaining the data needed, and completing and reviewing the collection.

Title: Inspection Under, and Enforcement of, Coast Guard Regulations for Fixed Facilities on the Outer Continental Shelf by the Minerals Management Service.

Summary of the Collection of Information: This proposed rule would require that a copy of form CG-5432, the annual self-inspection report, be kept on the facility. This form is already required to be completed annually and submitted to the Coast Guard, but a copy is not required to be kept on the facility. This proposed rule would require that a copy be kept on the facility for use by MMS inspectors. The proposed requirement would be added to the already approved collection of information OMB 2115-0569.

Need for Information: A copy of the report is needed on the facility to show MMS inspectors that the annual self-inspection has been conducted.

Proposed Use of Information: The copy of form CG-5432 would be used to confirm that the self-inspection had been conducted.

Description of the Respondents: Owners or operators of fixed OCS facilities.

Number of Respondents: We estimate there are 3,489 facilities engaged in Outer Continental Shelf activities.

Frequency of Response: Each year's form CG-5432 would be required to be kept on the facility for 2 years.

Burden of Response: The burden associated with meeting the proposed requirement would involve duplicating form CG-5432 so that the original can be sent to the Coast Guard, as already required, and a copy kept on the facility. We expect this burden to be 15 minutes annually per facility.

Estimate of Total Annual Burden: We estimate that the proposed requirement would impose a total annual burden on each facility of 15 minutes or 872 hours for all fixed OCS facilities. This amount would be added to the already approved annual burden associated with OMB collection 2115-0569.

As required by the Paperwork Reduction Act of 1995 (44 U.S.C. 3507(d)), we have submitted a copy of this proposed rule to the Office of Management and Budget (OMB) for its review of the collection of information.

We ask for public comment on the proposed collection of information to help us determine how useful the information is; whether it can help us perform our functions better; whether it is readily available elsewhere; how accurate our estimate of the burden of collection is; how valid our methods for determining burden are; how we can improve the quality, usefulness, and clarity of the information; and how we can minimize the burden of collection.

If you submit comments on the collection of information, submit them both to OMB and to the Docket Management Facility where indicated under ADDRESSES, by the date under DATES.

You need not respond to a collection of information unless it displays a currently valid control number from OMB. Before the requirements for this collection of information become effective, we will publish notice in the Federal Register of OMB's decision to approve, modify, or disapprove the collection.

Federalism

We have analyzed this proposed rule under Executive Order 13132, Federalism, and have determined that it does not have implications for federalism under that Order.

Unfunded Mandates Reform Act

The Unfunded Mandates Reform Act of 1995 (2 U.S.C. 1531-1538) requires Federal agencies to assess the effects of their regulatory actions not specifically required by law. In particular, the Act addresses actions that may result in the expenditure by a State, local, or tribal government, in the aggregate, or by the private sector of $100,000,000 or more in any one year. Though this proposed rule would not result in such an expenditure, we do discuss the effects of this rule elsewhere in this preamble.

Taking of Private Property

This proposed rule would not effect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and does not concern an environmental risk to health or risk to safety that may disproportionately affect children.

Environment

We considered the environmental impact of this proposed rule and concluded that, under figure 2-1, paragraph (34)(b), of Commandant Instruction M16475.1C, this proposed rule is categorically excluded from further environmental documentation. The proposed rule is excluded under paragraph (34)(b) because it is administrative in nature and has no environmental effect. A “Categorical Exclusion Determination” is available in the docket where indicated under ADDRESSES.

List of Subjects in 33 CFR Part 140

Continental shelf, Incorporation by reference, Investigations, Marine safety, Occupational safety and health, Penalties, Reporting and recordkeeping requirements.

For reasons discussed in the preamble, the Coast Guard proposes to amend 33 CFR part 140 as follows:

PART 140—GENERAL

1. The authority citation for part 140 continues to read as follows:

Authority: 43 U.S.C. 1333, 1348, 1350, 1356; 49 CFR 1.46.

2. In § 140.10, add, in alphabetical order, the definition of “Minerals Management Service inspector” to read as follows:

§ 140.10 Definitions.

* * * * *

Minerals Management Service inspector or MMS inspector means an individual employed by the Minerals Management Service who inspects fixed OCS facilities on behalf of the Coast Guard to determine whether the requirements of this subchapter are met.

* * * * *

3. In § 140.101—

a. Revise the section heading to read as set forth below;

b. Redesignate paragraphs (b) through (e) as paragraphs (c) through (f);

c. Add a new paragraph (b) to read as set forth below;

d. In redesignated paragraph (c), before the words “marine inspectors”, add the words “Coast Guard”; following the words “OCS activities”, add the words “, and MMS inspectors may inspect fixed OCS facilities,”; and, at the end of the last sentence, add the words “or MMS”; and

e. In redesignated paragraph (d), remove the words “a marine inspector” and add, in their place, the words “a Coast Guard marine inspector or an MMS inspector”; and remove the words “The marine inspector” and add, in their place, the words “The Coast Guard marine inspector or the MMS inspector”.

§ 140.101 Inspection by Coast Guard marine inspectors or Minerals Management Service inspectors.

* * * * *

(b) On behalf of the Coast Guard, each fixed OCS facility engaged in OCS activities is subject to inspection by the Minerals Management Service (MMS).

* * * * *

4. In § 140.103—

a. In paragraph (b), remove “140.101(e)” and add, in its place, “140.101(f)”; and remove the words “Marine inspectors” and add, in their place, the words “marine inspectors and Minerals Management Service (MMS) inspectors”; and

b. In paragraph (c), remove “140.101(e)” and add, in its place, “140.101(f)”; and at the end of the paragraph, add a sentence to read as follows:

§ 140.103 Annual inspection of fixed OCS facilities.

* * * * *

(c) * * * A copy of the completed form must be retained on the facility for 2 years after the inspection and made available to MMS on request.

* * * * *

§ 140.105 [Amended]

5. In § 140.105—

a. In paragraph (a), after the words “during an inspection”, add the words “by a Coast Guard marine inspector or a Minerals Management Service (MMS) inspector”;

b. In paragraph (b), before the words “is reported to”, add the words “or an MMS inspector”; and, after the words “time specified by the”, remove the words “Coast Guard”;

c. In paragraph (c), after the words “fire fighting equipment deficiencies”, add the words “on fixed OCS facilities”; and remove the words “the OCMI” wherever they appear and add, in their place, “MMS”; and

d. In paragraph (d), after the words “Marine Inspection,” add the words “or MMS (for deficiencies or hazards discovered by MMS during an inspection of a fixed OCS facility)”.

Dated: March 16, 2001.
R.C. North,
Rear Admiral, U.S. Coast Guard, Assistant Commandant for Marine Safety and Environmental Protection.

[FR Doc. 01-11848 Filed 5-9-01; 8:45 am]

BILLING CODE 4910-15-U